ENVIRONMENTAL PROTECTION AGENCY

[ER-FRL-9044-6]

Environmental Impact Statements; Notice of Availability

Responsible Agency: Office of Federal Activities, General Information 202-564-5632 or https://www.epa.gov/nepa/.

Weekly receipt of Environmental Impact Statements

Filed 04/22/2019 Through 04/26/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190072, Final, DOE, FL, Adoption—Eagle LNG Partners Jacksonville, LLC Jacksonville Project, Contact: Brian Lavoie 202-586-2459.

The Department of Energy (DOE) has adopted the Federal Energy Regulatory Commission's Final EIS No. 20190062, filed 04/19/2019 with the EPA. DOE was a cooperating agency on this project. Therefore, recirculation of the document is not necessary under Section 1506.3(c) of the CEQ regulations.

EIS No. 20190073, Final, USFS, AZ, Tonto National Forest Motorized Travel Management, Review Period Ends: 06/03/2019, Contact: Gregory Schuster 602-225-5362.

Due to an administrative error by the USFS, the Final EIS was not properly filed with the U.S. Environmental Protection Agency. USFS has confirmed that distribution of the Final EIS was made available to all federal agencies and interested parties for the 30-day wait period that will end on 06/03/2019.

EIS No. 20190074, Final, USFWS, CA, Green Diamond Forest Habitat Conservation Plan, Review Period Ends: 06/03/2019, Contact: Jennifer L. Norris 707-825-5123.

EIS No. 20190075, Final, USFS, ID, John Wood Forest Management Project, Review Period Ends: 06/03/2019, Contact: Bryan Fuell 208-547-4356.

EIS No. 20190076, Final, USACE, BLM, WY, Leavitt Reservoir Expansion Project, Review Period Ends: 06/03/2019, Contact: Holly Elliott 307-347-5193.

EIS No. 20190077, Draft Supplement, BLM, CA, Haiwee Geothermal Leasing Area Draft Supplemental Environmental Impact Statement and Draft Plan Amendment, Comment Period Ends: 08/01/2019, Contact: Gregory Miller 951-697-5216.

EIS No. 20190078, Final, FHWA, WV, US 340 Improvement Study, Review Period Ends: 06/07/2019, Contact: Jason Workman 304-347-5271.

EIS No. 20190079, Final, FERC, TX, Rio Grande LNG Project, Review Period Ends: 06/03/2019, Contact: Office of External Affairs 866-208-3372.

EIS No. 20190080, Final, USACE, BLM, WY, Alkali Creek Reservoir Project, Review Period Ends: 06/03/2019, Contact: Holly Elliott 307-347-5100.

EIS No. 20190081, Draft, USACE, IL, Draft Chicago Area Waterway System Dredged Material Management Plan, Comment Period Ends: 06/17/2019, Contact: Mike Padilla 312-846-5427.

EIS No. 20190082, Draft Supplement, BLM, AK, Supplemental Draft Environmental Impact Statement for the Haines Amendment to the Ring of Fire Resource Management Plan, Comment Period Ends: 07/25/2019, Contact: Marnie Graham 907-822-3217.

EIS No. 20190083, Final, DOE, MS, Adoption—Gulf LNG Liquefaction Project, Review Period, Contact: Brian Lavoie 202-586-2459.

The Department of Energy (DOE) has adopted the Federal Energy Regulatory Commission's Final EIS No. 20190065, filed 04/26/2019 with the EPA. DOE was a cooperating agency on this project. Therefore, recirculation of the document is not necessary under Section 1506.3(c) of the CEQ regulations.

EIS No. 20190084, Final, DOE, TX, Adoption—Annova LNG Brownsville Project, Contact: Brian Lavoie 202-586-2459.

The Department of Energy (DOE) has adopted the Federal Energy Regulatory Commission's Final EIS No. 20190069, filed 04/26/2019 with the EPA. DOE was a cooperating agency on this project. Therefore, recirculation of the document is not necessary under Section 1506.3(c) of the CEQ regulations.

Amended Notice

EIS No. 20190025, Draft, USFS, NM, South Sacramento Restoration Project, Comment Period Ends: 05/13/2019, Contact: Peggy Luensmann 575-434-7200.

Revision to FR Notice Published 03/15/2019; Extending the Comment Period from 04/29/2019 to 05/13/2019.

Dated: April 29, 2019.
Robert Tomiak,
Director, Office of Federal Activities.

[FR Doc. 2019-09012 Filed 5-2-19; 8:45 am]

BILLING CODE 6560-50-P